DEPARTMENT OF TRANSPORTATION

Research and Special Programs Administration

[Docket RSPA-98-4957; Notice 27]

Notice of Request to Extend Existing Information Collection

AGENCY: Research and Special Programs Administration, DOT.

ACTION: Request for OMB approval and public comments.

SUMMARY: As required by the Paperwork Reduction Act of 1995, the Research and Special Programs Administration's (RSPA) Office of Pipeline Safety (OPS) is publishing its intention to combine two existing information collections into one. OPS is combining Management Information System (MIS) Standardized Data Collection and Reporting of Drug Testing Materials (2137-0579) and Alcohol Testing (2137-0587) (65 FR 76704-05 December 7, 2000). No comments were received. The purpose of this notice is to allow the public an additional 30 days to comment and request approval from the Office of Management and Budget (OMB). The combined information collection will be titled “Drug and Alcohol Testing” (2137-0579).

OPS believes that alcohol and drug testing requirements are an important tool for operators to monitor drug and alcohol usage in the industry. OPS has found that drug and alcohol use in the pipeline industry is less than 1% of employees.

DATES: Comments on this notice must be received on or before April 16, 2001 to be assured of consideration.

ADDRESSES: Comments should identify the docket number of this notice, RSPA-98-4957, and be mailed directly to OMB, Office of Information and Regulatory Affairs, 726 Jackson Place, NW., Washington, DC 20503, ATTN: Desk Officer for DOT.

FOR FURTHER INFORMATION CONTACT: Marvin Fell, Office of Pipeline Safety, Research and Special Programs Administration, Department of Transportation, 400 Seventh Street, SW., Washington, DC 20590, (202) 366-6205 or by electronic mail at marvin.fell@rspa.dot.gov.

SUPPLEMENTARY INFORMATION: Title: Drug and Alcohol Testing.

OMB Number: 2137-0579.

Type of Request: Extension of an existing information collection.

Abstract: Drug and Alcohol abuse is a major societal problem and it is reasonable to assume the problem exists in the pipeline industry as it does in society as a whole. The potential harmful effect of drug and alcohol abuse on safe pipeline operations warrants imposing comprehensive testing regulations on the pipeline industry. These rules are found in 49 CFR part 199. These regulations require annual information collection of the results.

The Department of Transportation (DOT) is rewriting its drug and alcohol testing regulations in 49 CFR part 40. As a result, the bulk of the burden hours that were accounted for by the modes will now be accounted for in a new information collection issued by DOT.

OPS is using this opportunity to combine its information collections for drug and alcohol testing information collections.

Respondents: Pipeline operators.

Estimated Number of Respondents: 2,419.

Estimated Number of Responses per Respondent: 2.

Estimated Total Annual Burden on Respondents: 2,963 hours.

Copies of this information collection can be reviewed at the Dockets Facility, Plaza 401, U.S. Department of Transportation, 400 Seventh Street, SW., Washington, DC 20590 from 9 am to 5 pm. Monday through Friday except Federal holidays. They also can be viewed over the Internet at http://dms.dot.gov.

Comments are invited on: (a) The need for the proposed collection of information for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including the use of appropriate automated, electronic, mechanical, or other technological collection techniques.

Issued in Washington, DC on March 12, 2001.
Stacey L. Gerard,
Associate Administrator for Pipeline Safety.

[FR Doc. 01-6534 Filed 3-15-01; 8:45 am]

BILLING CODE 4910-60-P